DEPARTMENT OF TRANSPORTATION

Federal Aviation Administration

[Docket No. FAA-2025-0607]

Agency Information Collection Activities: Requests for Comments; Clearance of A New Approval of Information Collection

AGENCY: Federal Aviation Administration (FAA), DOT.

ACTION: Notice and request for comments.

SUMMARY: In accordance with the Paperwork Reduction Act of 1995, FAA invites public comments about our intention to request the Office of Management and Budget (OMB) approval for revision of a currently approved collection. The collection requires responses to questions regarding an individual's identity in order to gain access to U.S. Federal Government web applications. The information to be collected is used to verify the requestor's identity and create a user account.

DATES: Written comments should be submitted by June 16, 2025.

ADDRESSES: Please send written comments:

By Electronic Docket: www.regulations.gov (Enter docket number into search field)

By mail: Christopher K Brimage, 6500 S MacArthur Boulevard, ARB-115, Oklahoma City, OK 73169

By fax: 405-954-5798

FOR FURTHER INFORMATION CONTACT: Christopher K. Brimage by email at: kyle.brimage@faa.gov; phone: 405-596-9143

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0808

Title: MyAccess Non-credentialed User Access Requests

Form Numbers: No forms.

Type of Review: Revision of a currently approved collection.

Background: Uncredentialed users requesting access to web-based applications published by the Federal Aviation Administration or other United States Federal Government entities are required to identify themselves. The proposed collection of information will be used to positively identify the user requesting access and create a user account.

The identification of the requesting user is based on answers provided via a web interface that are matched against sources such as public records, mobile accounts, credit reporting bureaus and other available data. If a positive identification is made some of the collected information is used to create a user account to allow the user access to the requested web application.

Respondents: Any un-credentialed individual who requests a user account to access web applications published by the FAA or other U.S. Federal Government entity that is integrated with the MyAccess program.

Frequency: The collection is done one time for each new account request.

Estimated Average Burden per Response: ~0.07 hours (~4 minutes)

Estimated Total Annual Burden: ~0.07 hours (~4 minutes)

Issued in Oklahoma City, OK, April 11th, 2025.
Christopher K Brimage,
Information Technology Specialist, Enterprise Search & Integration Services Branch (ADE-330)—Solution Delivery Directorate, AIT, AFN, FAA, USDOT.

[FR Doc. 2025-06479 Filed 4-15-25; 8:45 am]

BILLING CODE 4910-13-P